DEPARTMENT OF LABOR

Employment and Training Administration

[NAFTA—06166]

Perfection-Schwank, Inc., Waynesboro, GA; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on May 3, 2002, in response to a petition filed by a company official on behalf of workers at Perfection-Schwank, Inc., Waynesboro, Georgia.

The petitioner has requested that the petition be withdrawn. Consequently, further investigation in this case would serve no purpose, and the investigation has been terminated.

Signed at Washington, D.C., this 27th day of June, 2002.
Linda G. Poole,
Certifying Officer, Division of Trade Adjustment Assistance.

[FR Doc. 02-18072 Filed 7-17-02; 8:45 am]

BILLING CODE 4510-30-P